DEPARTMENT OF ENERGY

Federal Energy Regulatory Commission

Combined Notice of Filings #1

Take notice that the Commission received the following electric rate filings:

Docket Numbers: ER12-33-002.

Applicants: Midwest Independent Transmission System Operator, Inc.

Description: 04-25-12 DEO/DEK Exit Fee Compliance to be effective 12/31/2011.

Filed Date: 4/25/12.

Accession Number: 20120425-5220.

Comments Due: 5 p.m. ET 5/16/12.

Docket Numbers: ER12-813-000.

Applicants: Southwest Power Pool, Inc.

Description: Refund Report—2166R1 Westar Energy—ER12-813 to be effective N/A.

Filed Date: 4/24/12.

Accession Number: 20120424-5158.

Comments Due: 5 p.m. ET 5/15/12.

Docket Numbers: ER12-828-000.

Applicants: Southwest Power Pool, Inc.

Description: Refund Report—1884R1 Westar Energy—ER12-828 to be effective N/A.

Filed Date: 4/24/12.

Accession Number: 20120424-5111.

Comments Due: 5 p.m. ET 5/15/12.

Docket Numbers: ER12-831-000.

Applicants: Southwest Power Pool, Inc.

Description: Refund Report—1889R1 Westar Energy—ER12-831 to be effective N/A.

Filed Date: 4/24/12.

Accession Number: 20120424-5113.

Comments Due: 5 p.m. ET 5/15/12.

Docket Numbers: ER12-894-000.

Applicants: Southwest Power Pool, Inc.

Description: Refund Report—2014R2 City Of Lindsborg—Order ER12-894 to be effective N/A.

Filed Date: 4/24/12.

Accession Number: 20120424-5112.

Comments Due: 5 p.m. ET 5/15/12.

Docket Numbers: ER12-1604-000.

Applicants: Cactus Energy LLC.

Description: Baseline New to be effective 4/25/2012.

Filed Date: 4/24/12.

Accession Number: 20120424-5110.

Comments Due: 5 p.m. ET 5/15/12.

Docket Numbers: ER12-1605-000.

Applicants: Entergy Arkansas, Inc.

Description: Oxy-Braz DTOA to be effective 6/1/2012.

Filed Date: 4/25/12.

Accession Number: 20120425-5069.

Comments Due: 5 p.m. ET 5/16/12.

Docket Numbers: ER12-1606-000.

Applicants: New England Power Company.

Description: Local Service Agreement with Mansfield Municipal Electric Dept.—Refiled to be effective 1/1/2012.

Filed Date: 4/25/12.

Accession Number: 20120425-5072.

Comments Due: 5 p.m. ET 5/16/12.

Docket Numbers: ER12-1607-000.

Applicants: MidAmerican Energy Company.

Description: Notice of Cancellation of Engineering & Procurement Agreements of MidAmerican Energy Company.

Filed Date: 4/25/12.

Accession Number: 20120425-5088.

Comments Due: 5 p.m. ET 5/16/12.

Docket Numbers: ER12-1608-000.

Applicants: New England Power Company.

Description: Notice of Termination of Rate Schedule No. 426 of New England Power Company.

Filed Date: 4/25/12.

Accession Number: 20120425-5091.

Comments Due: 5 p.m. ET 5/16/12.

Docket Numbers: ER12-1609-000.

Applicants: MidAmerican Energy Company.

Description: Notices of Cancellation—Rate Schedules 117 and 119 to be effective 4/26/2012.

Filed Date: 4/25/12.

Accession Number: 20120425-5099.

Comments Due: 5 p.m. ET 5/16/12.

Docket Numbers: ER12-1610-000.

Applicants: Southwest Power Pool, Inc.

Description: 2424 Oklahoma Gas & Electric Co. Interconnection & Interchange Agreement to be effective 5/1/2012.

Filed Date: 4/25/12.

Accession Number: 20120425-5108.

Comments Due: 5 p.m. ET 5/16/12.

Docket Numbers: ER12-1611-000.

Applicants: Westar Energy, Inc.

Description: Westar Energy, Inc. submits request regarding reclassification of Transmission Facilities defined in Southwest Power Pool Inc.'s Open Access Transmission Tariff Attachment AI.

Filed Date: 4/23/12.

Accession Number: 20120423-5231.

Comments Due: 5 p.m. ET 5/14/12.

Docket Numbers: ER12-1612-000.

Applicants: El Dorado Energy, LLC.

Description: El Dorado Energy, LLC submits tariff filing per 35.15: El Dorado Energy LLC Notice of Cancellation of MBR Tariff to be effective 4/26/2012.

Filed Date: 4/25/12.

Accession Number: 20120425-5257.

Comments Due: 5 p.m. ET 5/16/12.

Take notice that the Commission received the following electric securities filings:

Docket Numbers: ES12-37-000.

Applicants: The Detroit Edison Company.

Description: Application of the Detroit Edison Company for Authorization to Issue Securities.

Filed Date: 4/25/12.

Accession Number: 20120425-5274.

Comments Due: 5 p.m. ET 5/16/12.

Take notice that the Commission received the following land acquisition reports:

Docket Numbers: LA12-1-000.

Applicants: Blackstone Wind Farm LLC, Blackstone Wind Farm II LLC, High Trail Wind Farm, LLC, Meadow Lake Wind Farm LLC, Meadow Lake Wind Farm II LLC, Meadow Lake Wind Farm III LLC, Meadow Lake Wind Farm IV LLC, Old Trail Wind Farm, LLC, and Paulding Wind Farm II LLC.

Description: Land Acquisition Report of Blackstone Wind Farm LLC, et al.

Filed Date: 4/24/12.

Accession Number: 20120424-5167.

Comments Due: 5 p.m. ET 5/15/12.

Take notice that the Commission received the following qualifying facility filings:

Docket Numbers: QF12-330-000.

Applicants: Rand-Whitney Containerboard Limited Partnership.

Description: Form 556—Notice of self-certification of qualifying cogeneration facility status of Rand Whitney Containerboard LP.

Filed Date: 4/12/12.

Accession Number: 20120412-5052.

Comments Due: None Applicable.

Docket Numbers: QF12-331-000.

Applicants: RED-Burlington, LLC.

Description: Form 556—Notice of self-certification of qualifying cogeneration facility status of RED-Burlington, LLC.

Filed Date: 4/12/12.

Accession Number: 20120412-5134.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2012.
Nathaniel J. Davis, Sr.,
Deputy Secretary.

[FR Doc. 2012-10973 Filed 5-7-12; 8:45 am]

BILLING CODE 6717-01-P